DEPARTMENT OF ENERGY

Federal Energy Regulatory Commission

[Project No. 2100-180]

California Department of Water Resources; Notice of Application To Amend License and Accepted for Filing, Soliciting Comments, Motions To Intervene, and Protests

Take notice that the following hydroelectric application has been filed with the Commission in Project No. 2100-000 and is available for public inspection:

a. Application Type: Non-Capacity Amendment of License.

b. Project No: 2100-180.

c. Date Filed: May 17, 2017.

d. Applicant: California Department of Water Resources (DWR).

e. Name of Project: Feather River Hydroelectric Project.

f. Location: On the Feather River in Butte County, California.

g. Filed Pursuant to: Federal Power Act, 16 U.S.C. 791a—825r.

h. Applicant Contact: Gail Kuenster, 1416 Ninth Street, P.O. Box 942836, Sacramento, CA 94236-000, (916) 376-9780; Gail.Kuenster@water.ca.gov.

i. FERC Contact: John Aedo, (415) 369-3335, or by email at john.aedo@ferc.gov.

j. Deadline for filing comments, motions to intervene, and protests: 15 days from the issuance date of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2100-180. Comments emailed to Commission staff are not considered part of the Commission record.

k. Description of Request: Flood events in February 2017 caused extensive erosion to the service and emergency spillways at the Oroville Dam, part of the Feather River Hydroelectric Project. The area has been declared a federal major disaster. To protect public safety, DWR must restore project function before the wet season returns in late 2017. The erosion at the spillways compromised two towers supporting primary transmission lines. As part of DWR's broad emergency response and recovery efforts, DWR proposes to permanently relocate approximately two miles of the 230-kV transmission lines onto lands across the Feather River from the damaged spillways outside the current project boundary. The relocation would avoid future damage to the transmission lines, facilitate reconstruction of the spillways, and restore a reliable route for electricity to and from the dam's power plant. Given the urgent need to complete the recovery effort, Commission staff have accepted the May 17 filing as an application for a non-capacity amendment of the project license. On June 1, 2017, Commission staff issued a letter to DWR requesting additional information.

l. Locations of the Application: This filing may be viewed on the Commission's Web site at http://www.ferc.gov/docs-filing/elibrary.asp. Enter the docket number P-2100 in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the Commission's Public Reference Room, located at 888 First Street NE., Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant named in the May 17 filing. If an intervener files comments or documents with the Commission relating to the merits of an issue that may affect the responsibilities of a particular resource agency, they must also serve a copy of the document on that resource agency.

Dated: June 7, 2017.
Kimberly D. Bose,
Secretary.

[FR Doc. 2017-12228 Filed 6-12-17; 8:45 am]

BILLING CODE 6717-01-P